DEPARTMENT OF EDUCATION

Applications for New Awards; Magnet Schools Assistance Program

AGENCY: Office of Innovation and Improvement, Department of Education.

ACTION: Notice.

Overview Information: Magnet Schools Assistance Program (MSAP) Notice inviting applications for new awards for fiscal year (FY) 2017.

Catalog of Federal Domestic Assistance (CFDA) Number: 84.165A.

DATES:

Applications Available: December 13, 2016.

Deadline for Notice of Intent To Apply: January 9, 2017.

Deadline for Transmittal of Applications: April 11, 2017.

Date of Informational Webinar: The Department of Education (Department) intends to hold a Webinar to provide technical assistance to interested applicants. Detailed information regarding this Webinar will be provided on the MSAP Web site at http://innovation.ed.gov/what-we-do/parental-options/magnet-school-assistance-program-msap/. A recording of this Webinar will be available on the Web site following the session.

Deadline for Intergovernmental Review: May 8, 2017.

Full Text of Announcement

I. Funding Opportunity Description

Purpose of Program: The MSAP, authorized under Title IV, Part D of the Elementary and Secondary Education Act (ESEA), as amended by the Every Student Succeeds Act (ESSA), provides grants to local educational agencies (LEAs) and consortia of LEAs to support magnet schools under an approved, required or voluntary, desegregation plan.

The ESSA amended the MSAP in several important ways. To better support the development and implementation of magnet schools that increase racial integration and promote academic opportunity and excellence, the ESSA amended the MSAP to prioritize the creation and replication of evidence-based magnet programs and magnet schools that seek to reduce, eliminate, or prevent minority group isolation by taking into account socioeconomic diversity. To assist LEAs with improving access to magnet schools, under the program as reauthorized by the ESSA, MSAP funds may now be used to support student transportation, provided the transportation costs are sustainable and the costs do not constitute a significant portion of grant funds. Additionally, the reauthorized MSAP extends the grant term from three years to up to five years, and increases the maximum cumulative grant award from $12 million to $15 million to each grantee over the course of its project. Grantees must use grant funds for activities intended to improve students' academic achievement, including acquiring books, materials, technology, and equipment to support a rigorous, theme-based academic program; conducting planning and promotional activities; providing professional development opportunities for teachers to implement the academic program; and paying the salaries of effective teachers and other instructional personnel.

Background: The MSAP seeks to reduce minority group isolation by funding projects in LEAs or consortia of LEAs that propose to implement magnet schools with academically challenging, innovative instructional approaches or specialized curricula “designed to bring students from different social, economic, ethnic, and racial backgrounds together.” ¹ Unique to many of these schools is the implementation of high-demand, industry-specific themes, using sophisticated technology and curricula.

¹ 20 U.S.C. 7231(b)(2).

Recent MSAP grantees have experienced both successes and challenges. Some grantees have effectively diversified their schools, while other grantees have struggled to meet their desegregation goals. Similar to the disparity in grantees' results related to desegregation efforts, significant variations in grantees' ability to increase academic achievement have emerged.² As such, this year's competition continues to emphasize programs that show promise of promoting academic achievement and desegregation (primarily through the use of selection criteria focused on these issues).

² Walton, M., Silva, B., and Ford, E. (2016). Magnet Schools Assistance Program FY 2013 Cohort Characteristics and Government Performance and Results Act Data Report for Performance Year 2. U.S. Department of Education, Washington, DC.

In addition, as part of the program's focus on improving academic achievement and reducing minority group isolation, we include the program's new statutory priority to give a preference to applicants that propose to increase racial integration by taking into account socioeconomic diversity in designing and implementing magnet programs. The socioeconomic make-up of the school is one of the strongest predictors of whether or not a student will succeed academically. Moreover, the social benefits of attending an integrated school also contribute to improved academic and life outcomes for students.³ As of 2011, almost half of public elementary school students attend schools where most of the students are from lower-income households, and black and Latino students are disproportionately concentrated in these schools in almost every State.⁴ In this year's MSAP competition, we encourage applicants to propose a range of activities that incorporate a focus on socioeconomic diversity, including establishing and participating in a voluntary, inter-district transfer program for students from varied neighborhoods; making strategic decisions regarding magnet school sites to maximize the potential diversity (socioeconomically and otherwise) of the school given the schools' neighboring communities; revising school boundaries, attendance zones, or feeder patterns to take into account residential segregation or other related issues; and the formally merging of or coordinating among multiple educational jurisdictions in order to pool resources, provide transportation, and expand high-quality public school options for lower-income students. Applicants that choose to address this priority should identify the criteria they intend to use to determine students' socioeconomic status (e.g., based on family income, education level, other factors, or a combination thereof) and clearly describe and support how their approach to incorporating socioeconomic diversity is part of their overall effort to eliminate, reduce, or prevent minority group isolation.

³ Coleman, James. “Equality and Educational Opportunity.” Does Segregation Still Matter, Russell Rumberger and Gregory Palardy, 2005, 1999-2045.

⁴ Susan Aud et al., The Condition of Education 2011 (Washington, DC: U.S. Government Printing Office, 2011), Table A-28-1.

Designing schools that attract and retain a diverse group of students necessitates engagement with their parents, families, and community. For this reason, we encourage applicants to demonstrate ongoing, robust family and community engagement (primarily through the use of a selection criterion focused on this issue). As applicable, each applicant's process for public involvement and consultation should reflect coordination with other relevant government entities, including housing and transportation authorities, given the impact that other public policies, such as housing and transportation, have on the composition of a school's student body. To encourage systemic and timely change, the Department is also interested in proposals that establish new school assignment or admissions policies for schools that seek to increase the number of low-income students they serve through student assignment policies that consider the socioeconomic status of students' households, students residing in neighborhoods experiencing concentrated poverty, and students from low-performing schools (amongst other factors). The Department is further interested in proposals that establish magnet schools at multiple locations within an LEA or consortia of LEAs that vary in terms of the demographics of the surrounding neighborhoods to increase opportunities for all students to attend high-quality magnet schools without placing the majority of the transportation burden on students of color. Such proposals should be addressed in response to Competitive Preference Priority 4.

With this year's competition, the Department also aims to improve MSAP's short- and longer-term outcomes and generate evidence to inform future efforts by encouraging applicants to (1) propose projects that are supported by prior evidence and (2) propose robust evaluations of their proposed MSAP projects that would yield evidence of promise (as defined in this notice) from which future MSAP applicants could learn. Along these lines, we include a selection criterion that encourages applicants to submit a logic model as part of their applications. Each proposed project should be supported by a logic model with clearly defined outcomes that will inform the project's performance measures and evaluation. In addition, through Competitive Preference Priority 2 we encourage applicants to submit research that demonstrates that the applicant's proposed approach to their MSAP-funded magnet schools is based on prior evidence and we encourage applicants to submit evidence that corresponds to the highest levels of evidence available.

Under the ESSA amendments to the ESEA, MSAP grantees will now have more funding, time, and resources to implement meaningful, proven methods for developing magnet programs to diversify schools and improve academic outcomes for students. We encourage LEAs to use the MSAP funds as a catalyst to create comprehensive and systematic approaches to racial and socioeconomic integration, including effective desegregation programs that will be continued after the end of the grant.

Priorities: This competition includes four competitive preference priorities. In accordance with 34 CFR 75.105(b)(2)(ii), Competitive Preference Priorities 1 and 3 are from the MSAP regulations at 34 CFR 280.32. In accordance with 34 CFR 75.105(b)(2)(iv), Competitive Preference Priorities 2 and 4 are from section 4406 of the ESEA, as amended by the ESSA, 20 U.S.C. 7231e.

Competitive Preference Priorities: For FY 2017, these priorities are competitive preference priorities. Under 34 CFR 280.30(f), we will award up to six additional points to an application, depending on how well the applicant addresses Competitive Preference Priorities 1, 2, and 3. Under 34 CFR 75.105(c)(2)(i) we will award up to an additional four points to an application, depending on how well the application addresses Competitive Preference Priority 4. Together, depending on how well the application meets these priorities, an application may be awarded up to a total of 10 additional points. Applicants may apply under any, all, or none of the competitive preference priorities. The maximum possible points for each competitive preference priority are indicated in parentheses following the name of the priority. These points are in addition to any points the application earns under the selection criteria in this notice.

These priorities are:

Competitive Preference Priority 1—Need for Assistance (0 or 2 Additional Points)

The Secretary evaluates the applicant's need for assistance by considering—

(a) The costs of fully implementing the magnet schools project as proposed;

(b) The resources available to the applicant to carry out the project if funds under the program were not provided;

(c) The extent to which the costs of the project exceed the applicant's resources; and

(d) The difficulty of effectively carrying out the approved plan and the project for which assistance is sought, including consideration of how the design of the magnet schools project—e.g., the type of program proposed, the location of the magnet school within the LEA—impacts the applicant's ability to successfully carry out the approved plan.

Competitive Preference Priority 2—New or Revised Magnet Schools Projects and Strength of Evidence To Support Proposed Projects (0 to 3 Additional Points)

The Secretary determines the extent to which the applicant proposes to carry out a new evidence-based (as defined in this notice) magnet school program or significantly revise an existing magnet school program using evidence-based methods and practices, as available, or replicate an existing magnet school program that has a demonstrated record of success in increasing student academic achievement and reducing isolation of minority groups.

Competitive Preference Priority 3—Selection of Students (0 to 2 Additional Points)

The Secretary determines the extent to which the applicant proposes to select students to attend magnet schools by methods such as lottery, rather than through academic examination.

Competitive Preference Priority 4—Increasing Racial Integration and Socioeconomic Diversity (0 to 4 Additional Points)

The Secretary determines the extent to which the applicant proposes to increase racial integration by taking into account socioeconomic diversity in designing and implementing magnet school programs.

Definitions: The definition of “evidence-based” is from 20 U.S.C. 7801. The remaining definitions are from 34 CFR 77.1(c).

Evidence-based means an activity, strategy, or intervention that—

(i) Demonstrates a statistically significant effect on improving student outcomes or other relevant outcomes based on—

(A) Strong evidence from at least one well-designed and well-implemented experimental study;

(B) Moderate evidence from at least one well designed and well-implemented quasi-experimental study; or

(C) Promising evidence from at least one well-designed and well-implemented correlational study with statistical controls for selection bias; or

(ii)

(A) Demonstrates a rationale based on high-quality research findings or positive evaluation that such activity, strategy, or intervention is likely to improve student outcomes or other relevant outcomes; and

(B) Includes ongoing efforts to examine the effects of such activity, strategy, or intervention.

Evidence of promise means there is empirical evidence to support the theoretical linkage(s) between at least one critical component and at least one relevant outcome presented in the logic model for the proposed process, product, strategy, or practice. Specifically, evidence of promise means the conditions in paragraphs (i) and (ii) of this section are met:

(i) There is at least one study that is a—

(A) Correlational study with statistical controls for selection bias;

(B) Quasi-experimental study that meets the What Works Clearinghouse Evidence Standards with reservations; or

(C) Randomized controlled trial that meets the What Works Clearinghouse Evidence Standards with or without reservations.

(ii) The study referenced in paragraph (i) found a statistically significant or substantively important (defined as a difference of 0.25 standard deviations or larger), favorable association between at least one critical component and one relevant outcome presented in the logic model for the proposed process, product, strategy, or practice.

Logic model (also referred to as theory of action) means a well-specified conceptual framework that identifies key components of the proposed process, product, strategy, or practice (i.e., the active “ingredients” that are hypothesized to be critical to achieving the relevant outcomes) and describes the relationships among the key components and outcomes, theoretically and operationally.

Quasi-experimental design study means a study using a design that attempts to approximate an experimental design by identifying a comparison group that is similar to the treatment group in important respects. These studies, depending on design and implementation, can meet What Works Clearinghouse Evidence Standards with reservations (but not What Works Clearinghouse Evidence Standards without reservations).

Randomized controlled trial means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations.

Relevant outcome means the student outcome(s) (or the ultimate outcome if not related to students) the proposed process, product, strategy, or practice is designed to improve; consistent with the specific goals of a program.

Strong theory means a rationale for the proposed process, product, strategy, or practice that includes a logic model.

What Works Clearinghouse Evidence Standards means the standards set forth in the What Works Clearinghouse Procedures and Standards Handbook (Version 3.0, March 2014), which can be found at the following link: http://ies.ed.gov/ncee/wwc/DocumentSum.aspx?sid=19.

Program Authority: 20 U.S.C. 7231-7231j.

Applicable Regulations: (a) The Education Department General Administrative Regulations (EDGAR) in 34 CFR parts 75, 77, 79, 80, 81, 82, 84, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR part 280.

II. Award Information

Type of Award: Discretionary grants.

Estimated Available Funds: $90,582,483.

The Administration has requested $115,000,000 for this program for FY 2017, of which we estimate $90,582,483 will be for new awards. The actual level of funding, if any, depends on final congressional action. However, we are inviting applications at this time to allow enough time for applicants to develop strong applications and for the Department to complete the grant process before the end of the 2017 fiscal year, if Congress appropriates funds for this program.

Contingent upon the availability of funds and the quality of applications, we may make additional awards in FY 2018 from the list of unfunded applications from this competition.

Estimated Range of Awards: $700,000-$3,000,000 per budget year.

Maximum Award: No grant awarded under this competition to a LEA, or a consortium of LEAs, shall be for more than $15,000,000 for the project period. Grantees may not expend more than 50 percent of the year one grant funds and not more than 15 percent of year two and three grant funds for planning activities. Professional development is not considered to be a planning activity.

Note: Yearly award amounts may vary.

Estimated Number of Awards: 23-30.

Note: The Department is not bound by any estimates in this notice.

Project Period: Up to 60 months.

III. Eligibility Information

1. Eligible Applicants: LEAs or consortia of LEAs implementing a desegregation plan as specified in section III. 3 of this notice.

2. Cost Sharing or Matching: This program does not require cost sharing or matching.

3. Application Requirement: Under section 4405(b)(1)(A) of the ESEA, as amended by the ESSA, applicants must describe how a grant awarded under this competition will be used to promote desegregation. Applicants must include any available evidence on how the proposed magnet school programs will increase interaction among students of different social, economic, ethnic, and racial backgrounds. If such evidence is not available, applicants must include a rationale, based on current research, for how the proposed magnet school programs will increase interaction among students of different social, economic, ethnic, and racial backgrounds. Applicants should address this application requirement in the project narrative and, as appropriate, the logic model.

4. Other: Applicants must submit with their applications one of the following types of desegregation plans to establish eligibility to receive MSAP assistance: (a) A desegregation plan required by a court order; (b) a desegregation plan required by a State agency or an official of competent jurisdiction; (c) a desegregation plan required by the Department's Office for Civil Rights (OCR) under Title VI of the Civil Rights Act of 1964 (Title VI); or (d) a voluntary desegregation plan adopted by the applicant and submitted to the Department for approval as part of the application. Under the MSAP regulations, applicants are required to provide all of the information required in 34 CFR 280.20(a) through (g) in order to satisfy the civil rights eligibility requirements found in 34 CFR 280.2(a)(2) and (b).

In addition to the particular data and other items for required and voluntary desegregation plans described in the application package, an application must include—

• Projected enrollment by race and ethnicity for magnet and feeder schools;

• Signed civil rights assurances (included in the application package); and

• An assurance that the desegregation plan is being implemented or will be implemented if the application is funded.

Required Desegregation Plans

1. Desegregation plans required by a court order. An applicant that submits a desegregation plan required by a court order must submit complete and signed copies of all court documents demonstrating that the magnet schools are a part of the approved desegregation plan. Examples of the types of documents that would meet this requirement include a Federal or State court order that establishes specific magnet schools, amends a previous order or orders by establishing additional or different specific magnet schools, requires or approves the establishment of one or more unspecified magnet schools, or that authorizes the inclusion of magnet schools at the discretion of the applicant.

2. Desegregation plans required by a State agency or official of competent jurisdiction. An applicant submitting a desegregation plan ordered by a State agency or official of competent jurisdiction must provide documentation that shows that the desegregation plan was ordered based upon a determination that State law was violated. In the absence of this documentation, the applicant should consider its desegregation plan to be a voluntary plan and submit the data and information necessary for voluntary plans.

3. Desegregation plans required by Title VI. An applicant that submits a desegregation plan required by OCR under Title VI must submit a complete copy of the desegregation plan demonstrating that magnet schools are part of the approved plan or that the plan authorizes the inclusion of magnet schools at the discretion of the applicant.

4. Modifications to required desegregation plans. A previously approved desegregation plan that does not include the magnet school or program for which the applicant is now seeking assistance must be modified to include the magnet school component. The modification to the desegregation plan must be approved by the court, agency, or official that originally approved the plan. An applicant that wishes to modify a previously approved OCR Title VI desegregation plan to include different or additional magnet schools must submit the proposed modification for review and approval to the OCR regional office that approved its original plan.

An applicant should indicate in its application if it is seeking to modify its previously approved desegregation plan. However, all applicants must submit proof of approval of all modifications to their plans to the Department by May 19, 2017. Proof of plan modifications should be mailed to the person and address identified under FOR FURTHER INFORMATION CONTACT in section VII of this notice.

Voluntary Desegregation Plans

A voluntary desegregation plan must be approved by the Department each time an application is submitted for funding. Even if the Department has approved a voluntary desegregation plan in an LEA in the past, to be reviewed, the desegregation plan must be resubmitted with the application, by the application deadline.

An applicant's voluntary desegregation plan must describe how the LEA defines or identifies minority group isolation, demonstrate how the LEA will reduce, eliminate, or prevent minority group isolation for each magnet school in the proposed magnet school application, and, if relevant, at identified feeder schools, and demonstrate that the proposed voluntary desegregation plan is adequate under Title VI. For additional guidance on how an LEA can voluntarily reduce minority group isolation and promote diversity in an LEA in light of the Supreme Court's decision in Parents Involved in Community Schools v. Seattle School District No 1 et al., 551 U.S. 701 (2007), see the December 2, 2011, “Guidance on the Voluntary Use of Race to Achieve Diversity and Avoid Racial Isolation in Elementary and Secondary Schools” available on the Department's Web site at www.ed.gov/ocr/docs/guidance-ese-201111.pdf.

Complete and accurate enrollment forms and other information as required by the regulations in 34 CFR 280.20(f) and (g) for applicants with voluntary desegregation plans are critical to the Department's determination of an applicant's eligibility under a voluntary desegregation plan (specific requirements are detailed in the application package).

Voluntary desegregation plan applicants must submit documentation of school board approval or documentation of other official adoption of the plan as required by the regulations in 34 CFR 280.20(f)(2) when submitting their application. LEAs that were previously under a required desegregation plan, but that have achieved unitary status and so are voluntary desegregation plan applicants, typically would not need to include court orders. Rather such applications should provide the documentation discussed in this section.

4. Single-Sex Programs: In addition to the normal MSAP grant review process, an applicant proposing to operate a single-sex magnet school or a coeducational magnet school that offers single-sex classes or extracurricular activities will undergo a separate and detailed review of its proposed single-sex educational program to determine compliance with applicable nondiscrimination laws, including the Equal Protection Clause of the U.S. Constitution (as interpreted in United States v. Virginia, 518 U.S. 515 (1996), and other cases) and Title IX of the Education Amendments of 1972 (20 U.S.C. 1681, et seq.) and its regulations, including 34 CFR 106.34. This additional review is likely to require the applicant to provide additional fact-specific information about the single-sex program within the Department's timeframes for determining eligibility for funding. It is likely special conditions will be placed on any grant used to support a single-sex educational program. Please see the application package for additional information about an application proposing a single-sex magnet school or a coeducational magnet school offering single-sex classes or extracurricular activities.

IV. Application and Submission Information

1. Address to Request Application Package: You can obtain an application package via the Internet, from the Education Publications Center (ED Pubs), or from the program office.

To obtain a copy via the Internet, use the following address: www.ed.gov/fund/grant/apply/grantapps/.

To obtain a copy from ED Pubs, write, fax, or call the following: Education Publications Center, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EdPubs.gov or at its email address: edpubs@inet.ed.gov.

If you request an application from ED Pubs, be sure to identify this program as follows: CFDA number 84.165A.

To obtain a copy from the program office, contact: Jennifer Todd, U.S. Department of Education, 400 Maryland Avenue SW., Room 4W201, Washington, DC 20202-5970. Telephone: (202) 453-7200 or by email: msap.team@ed.gov.

If you use a TDD or TTY, call the Federal Relay Service (FRS), toll free, at 1-800-877-8339.

Individuals with disabilities can obtain a copy of the application package in an accessible format (e.g., braille, large print, audiotape, or compact disc) by contacting the program contact person listed in this section.

2. a. Content and Form of Application Submission: Requirements concerning the content and form of an application, together with the forms you must submit, are in the application package for this competition.

Notice of Intent to Apply: The Department will be able to develop a more efficient process for reviewing grant applications if it has a better understanding of the number of entities that intend to apply for funding under this competition. Therefore, the Secretary strongly encourages each potential applicant to notify the Department of the applicant's intent to submit an application for funding by completing a Web-based form. When completing this form, applicants will provide (1) the applicant organization's name and address, (2) the number of and proposed theme(s) of school(s) that will be served through the MSAP grant, and (3) information on the priority or priorities (if any) under which the applicant intends to apply. Applicants may access this form online at http://innovation.ed.gov/what-we-do/parental-options/magnet-school-assistance-program-msap/. Applicants that do not complete this form may still apply for funding.

Page Limit: The application narrative (Part III of the application) is where you, the applicant, address the selection criteria and the competitive preference priorities that reviewers use to evaluate your application. The suggested page limit for the application narrative is no more than 150 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

• Use one of the following fonts: Times New Roman, Courier, Courier New, or Arial. An application submitted in any other font (including Times Roman or Arial Narrow) will not be accepted.

• Include page numbers at the bottom of each page in your narrative.

The page limit does not apply to Part I, the cover sheet; Part II, the budget section, including the narrative budget justification; Part IV, the assurances, certifications, the desegregation plan and related information, and the tables used to respond to Competitive Preference Priorities 2 and 3; or the one-page abstract, the resumes, or letters of support. However, the page limit does apply to all of the application narrative in Part III.

2. b. Submission of Proprietary Information: Given the types of projects that may be proposed in applications for the MSAP program, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: December 13, 2016.

Date of Informational Webinar: The MSAP intends to hold a Webinar to provide technical assistance to interested applicants. Detailed information regarding this Webinar will be provided on the MSAP Web site at: http://innovation.ed.gov/what-we-do/parental-options/magnet-school-assistance-program-msap/.

A recording of this Webinar will be available on the Web site following the session.

Deadline for Transmittal of Applications: April 11, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: May 8, 2017.

4. Intergovernmental Review: This program is subject to Executive Order 12372 and the regulations in 34 CFR part 79. Information about Intergovernmental Review of Federal Programs under Executive Order 12372 is in the application package for this program.

5. Funding Restrictions: We specify unallowable costs in 34 CFR 280.41. The ESEA, as amended by the ESSA, removed the statutory prohibition on the use of funds for transportation; therefore, the prohibition on transportation in the regulation is no longer applicable. We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under MSAP must be submitted electronically unless you qualify for an exception to this requirement in accordance with the instructions in this section.

a. Electronic Submission of Applications.

Applications for grants under MSAP, CFDA number 84.165A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for MSAP at www.Grants.gov. You must search for the downloadable application package for this program by the CFDA number. Do not include the CFDA number's alpha suffix in your search (e.g., search for 84.165, not 84.165A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for MSAP to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues With the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Jennifer Todd, U.S. Department of Education, 400 Maryland Avenue SW., Room 4W250, Washington, DC 20202-5970. FAX: (202) 205-5630.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.165A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.165A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria are from 34 CFR 75.210, 34 CFR 280.30, 34 CFR 280.31, and sections 4401 and 4405 of the ESEA, as amended by the ESSA. All of the selection criteria are listed in this section and in the application package.

The maximum score for all of the selection criteria is 100 points. The maximum score for each criterion is included in parentheses following the title of the specific selection criterion. Each criterion also includes the factors that reviewers will consider in determining the extent to which an applicant meets the criterion.

Points awarded under these selection criteria are in addition to any points an applicant earns under the competitive preference priorities in this notice. The maximum score that an application may receive under the competitive preference priorities and the selection criteria is 110 points.

(a) Desegregation (30 points).

The Secretary reviews each application to determine the quality of the desegregation-related activities and determines the extent to which the applicant demonstrates—

(1) The effectiveness of its plan to recruit students from different social, economic, ethnic, and racial backgrounds into the magnet schools. (34 CFR 280.31(a)(2)(v))

(2) How it will foster interaction among students of different social, economic, ethnic, and racial backgrounds in classroom activities, extracurricular activities, or other activities in the magnet schools (or, if appropriate, in the schools in which the magnet school programs operate). (34 CFR 280.31)

(3) How it will ensure equal access and treatment for eligible project participants who have been traditionally underrepresented in courses or activities offered as part of the magnet school, e.g., women and girls in mathematics, science, or technology courses, and disabled students. (34 CFR 280.31)

(4) The effectiveness of all other desegregation strategies proposed by the applicant for the elimination, reduction, or prevention of minority group isolation in elementary schools and secondary schools with substantial proportions of minority students. (Section 4401(b)(1) of the ESEA, as amended by the ESSA)

(b) Quality of Project Design (30 points).

The Secretary reviews each application to determine the quality of the project design. In determining the quality of the design of the proposed project, the Secretary considers the following factors:

(1) The manner and extent to which the magnet school program will improve student academic achievement for all students attending the magnet school programs, including the manner and extent to which each magnet school program will increase student academic achievement in the instructional area or areas offered by the school, including any evidence, or if such evidence is not available, a rationale based on current research findings, to support such description. (Sections 4405(b)(1)(E)(i) and 4405(b)(1)(B) of the ESEA, as amended by the ESSA)

(2) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence. (34 CFR 75.210)

(3) The extent to which the training or professional development services to be provided by the proposed project are of sufficient quality, intensity, and duration to lead to improvements in practice among the recipients of those services. (34 CFR 75.210)

(4) The extent to which the proposed project is supported by strong theory (as defined in this notice). (34 CFR 75.210)

(c) Quality of Management Plan (15 points) (34 CFR 75.210).

The Secretary considers the quality of the management plan for the proposed project. In determining the quality of the management plan for the proposed project, the Secretary considers the following factors:

(1) The adequacy of the management plan to achieve the objectives of the proposed project on time and within budget, including clearly defined responsibilities, timelines, and milestones for accomplishing project tasks.

(2) How the applicant will ensure that a diversity of perspectives are brought to bear in the operation of the proposed project, including those of parents, teachers, the business community, a variety of disciplinary and professional fields, recipients or beneficiaries of services, or others, as appropriate.

(d) Quality of Personnel (5 points) (34 CFR 280.31).

(1) The Secretary reviews each application to determine the qualifications of the personnel the applicant plans to use on the project. The Secretary determines the extent to which—

(a) The project director (if one is used) is qualified to manage the project;

(b) Other key personnel are qualified to manage the project; and

(c) Teachers who will provide instruction in participating magnet schools are qualified to implement the special curriculum of the magnet schools.

(2) To determine personnel qualifications, the Secretary considers experience and training in fields related to the objectives of the project, including the key personnel's knowledge of and experience in curriculum development and desegregation strategies.

(e) Quality of Project Evaluation (20 points) (34 CFR 75.210).

The Secretary considers the quality of the evaluation to be conducted of the proposed project. In determining the quality of the evaluation, the Secretary considers the following factors:

(1) The extent to which the methods of evaluation will, if well-implemented, produce evidence of promise (as defined in this notice).

(2) The extent to which the methods of evaluation include the use of objective performance measures that are clearly related to the intended outcomes of the project and will produce quantitative and qualitative data to the extent possible.

(3) The extent to which the costs are reasonable in relation to the objectives, design, and potential significance of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) The Secretary may provide a grantee with additional funding for data collection analysis and reporting. In this case the Secretary establishes a data collection period.

4. Performance Measures: We have established the following five performance measures for the MSAP:

(a) The number and percentage of magnet schools receiving assistance whose student enrollment reduces, eliminates, or prevents minority group isolation.

(b) The percentage increase of students from major racial and ethnic groups in magnet schools receiving assistance who score proficient or above on State assessments in reading/language arts as compared to previous year's data.

(c) The percentage increase of students from major racial and ethnic groups in magnet schools receiving assistance who score proficient or above on State assessments in mathematics as compared to previous year's data.

(d) The percentage of magnet schools that received assistance that are still operating magnet school programs three years after Federal funding ends.

(e) The percentage of magnet schools that received assistance that meet the State's annual measurable objectives and, for high schools, graduation rate targets at least three years after Federal funding ends.

Note: Recognizing that States are no longer required to report annual measurable objectives to the Department under the ESEA, as amended by the ESSA, we include this performance measure in order to ensure MSAP grantees monitor and report high school graduation rates. States must establish and measure against ambitious, long-term goals; we encourage MSAP grantees to consider these State goals and incorporate them into their annual performance reporting as appropriate.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Jennifer Todd, U.S. Department of Education, 400 Maryland Avenue SW., Room 4W201, Washington, DC 20202-5970. Telephone: (202) 453-7200 or by email: msap.team@ed.gov.

If you use a TDD or TTY, call the FRS, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: December 8, 2016.
Nadya Chinoy Dabby,
Assistant Deputy Secretary for Innovation and Improvement.

[FR Doc. 2016-29907 Filed 12-12-16; 8:45 am]

BILLING CODE 4000-01-P